DEPARTMENT OF HEALTH AND HUMAN SERVICES

Centers for Disease Control and Prevention

[30Day-10-0539]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Estimating the Capacity for National and State-Level Colorectal Cancer Screening through a Survey of Endoscopic Capacity (SECAP II)(OMB No. 0920-0539, exp. 3/31/2003)—Reinstatement with Change—Division of Cancer Prevention and Control, National Center for Chronic Disease Prevention and Health Promotion (NCCDPHP), Centers for Disease Control and Prevention (CDC).

Background and Brief Description

Colorectal cancer (CRC) is the second leading cause of cancer-related deaths in the United States (U.S.). Most colorectal cancers develop from pre-existing growths, or polyps, which slowly transform into cancers over a period of 10-20 years. As a result, CRC is ideally suited for prevention and early detection through regular screening. Recommended screening procedures include flexible sigmoidoscopy and colonoscopy, which allow qualified medical professionals to identify and remove polyps as well as to detect early cancers. Information regarding the capacity of the U.S. health care system to provide lower GI endoscopic procedures is critical to planning widespread CRC screening programs.

CDC requests OMB approval to reinstate a previously approved data collection, formerly entitled the National Survey of Endoscopic Capacity (SECAP) (OMB No. 0920-0539, exp. 3/31/2003), to obtain a current estimate of the number of colorectal cancer screening and follow-up tests being performed, as well as the maximum number of screening and follow-up tests that could be performed in the event of widespread screening. In addition, the reinstatement request describes a plan to conduct state-specific surveys in up to 18 selected states. Similar surveys were conducted in 15 selected states from 2003 to 2005, and provided estimates of endoscopic screening capacity at state and sub-state levels (State Survey of Endoscopic Capacity, OMB No. 0920-0590, exp. 6/30/2006). However, in light of recent trends in colorectal cancer screening (e.g., increases in the percentage of public and private insurers that reimburse for screening colonoscopy, increased use of colonoscopy and decreased use of flexible sigmoidoscopy, availability of other colorectal cancer screening procedures), there is a need to update estimates of endoscopic capacity to guide continued screening initiatives.

OMB approval is requested for three years. The proposed national survey will be conducted in 2010-2011 and will be based on an updated version of the previously fielded paper-and-pencil survey instrument. The target population for the national survey is all facilities in the U.S. that use lower gastrointestinal flexible endoscopic equipment for the detection of colorectal cancer in adults. Information will be collected from a random sample of 1,440 facilities, stratified by U.S. Census region and urban/rural location.

Additional state-level surveys will be conducted from approximately 2010-2012 and will include a census survey of up to 18 selected states, based on methodology employed with the previously fielded state-based survey. An average of 135 facilities will be selected to participate in each state. A total of approximately 1,680 completed state surveys will be collected over the three years of the project.

Facilities will be recruited and screened through a telephone interview. Participation is voluntary. The information collection will inform planning efforts for national and state colorectal cancer screening.

There are no costs to respondents other than their time. The total estimated burden hours are 732.

Estimated Annualized Burden Hours
Type of respondent | Form name | Number of respondents | Number of responses per respondent | Average burden per response (in hours)
Medical Facilities that Perform CRC Screening | National Survey Recruitment Interview | 700 | 1 | 5/60
| National SECAP Survey | 480 | 1 | 35/60
| State Survey Recruitment Interview | 800 | 1 | 5/60
| State SECAP Survey | 560 | 1 | 35/60

Carol Walker,
Acting Reports Clearance Officer, Centers for Disease Control and Prevention.

[FR Doc. 2010-11413 Filed 5-12-10; 8:45 am]

BILLING CODE 4163-18-P